DEPARTMENT OF COMMERCE

National Oceanic and Atmospheric Administration

RIN 0648-XE137

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Advisory Panel to consider actions affecting New England fisheries in the exclusive economic zone (EEZ). Recommendations from this group will be brought to the full Council for formal consideration and action, if appropriate.

DATES: The meeting will be held on Monday, September 14, 2015 at 9:30 a.m.

ADDRESSES: The meeting will be held at the Hilton Garden Inn, 100 Boardman Street, Boston, MA 02128; phone: (617) 567-6789; fax: (617) 561-0798.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Advisory Panel (AP) plans to review the Draft 2016-18 Atlantic Herring Fishery Specifications Package and develop AP recommendations regarding the selection of final 2016-2018 Atlantic herring fishery specifications; the 2016-18 specifications will address overfishing levels and acceptable biological catch, management uncertainty, optimum yield and a stock-wide annual catch limit (ACL) for Atlantic herring, Domestic Annual Harvest, Domestic Annual Processing, U.S. At-Sea Processing, Border Transfer, sub-ACLs (quotas) for each of the four Atlantic herring management areas, seasonal (monthly) sub-ACL allocations, research set-asides, set-asides for fixed gear fisheries, and annual gear/area-specific catch caps for river herring/shad (RH/S). They also plan to review/discuss the Draft Environmental Assessment for the NMFS-led omnibus Industry-Funded Monitoring (IFM) Amendment; review options under consideration to establish IFM in the Atlantic herring fishery and develop recommendations regarding the selection of a preferred alternative. They will also discuss other business as necessary.

Although non-emergency issues not contained in this agenda may come before this group for discussion, those issues may not be the subject of formal action during the meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 25, 2015.
Tracey L. Thompson,
Acting Deputy Director, Office of Sustainable Fisheries, National Marine Fisheries Service.

[FR Doc. 2015-21350 Filed 8-27-15; 8:45 am]

BILLING CODE 3510-22-P